DEPARTMENT OF ENERGY

Federal Energy Regulatory Commission

Combined Notice of Filings #1

Take notice that the Commission received the following exempt wholesale generator filings:

Docket Numbers: EG17-96-000.

Applicants: Santa Rita Wind Energy LLC.

Description: Notice of Self-Certification of Exempt Wholesale Generator Status of Santa Rita Wind Energy LLC.

Filed Date: 4/7/17.

Accession Number: 20170407-5260.

Comments Due: 5 p.m. ET 4/28/17.

Take notice that the Commission received the following electric rate filings:

Docket Numbers: ER16-1530-000.

Applicants: BIF III Holtwood LLC.

Description: Report Filing: Refund Report BIF III Holtwood to be effective N/A.

Filed Date: 4/10/17.

Accession Number: 20170410-5196.

Comments Due: 5 p.m. ET 5/1/17.

Docket Numbers: ER17-1025-002.

Applicants: Cedar Point Wind, LLC.

Description: Tariff Amendment: Recollation Amendment Title Page and Header Revisions to be effective 2/24/2017.

Filed Date: 4/10/17.

Accession Number: 20170410-5054.

Comments Due: 5 p.m. ET 5/1/17.

Docket Numbers: ER17-1026-002.

Applicants: Silver State Solar Power North, LLC.

Description: Tariff Amendment: SSN Recollation Amendment Title Page and Header to be effective 2/24/2017.

Filed Date: 4/10/17.

Accession Number: 20170410-5099.

Comments Due: 5 p.m. ET 5/1/17.

Docket Numbers: ER17-1394-000.

Applicants: 83WI 8me, LLC.

Description: Baseline eTariff Filing: 83WI 8me Initial MBR Application and Request for Expedited Consideration to be effective 5/19/2017.

Filed Date: 4/7/17.

Accession Number: 20170407-5261.

Comments Due: 5 p.m. ET 4/28/17.

Docket Numbers: ER17-1395-000.

Applicants: PJM Interconnection, L.L.C.

Description: § 205(d) Rate Filing: Amendment to Service Agreement No. 4320, Queue No. AA1-109 to be effective 12/3/2015.

Filed Date: 4/10/17.

Accession Number: 20170410-5109.

Comments Due: 5 p.m. ET 5/1/17.

Docket Numbers: ER17-1396-000.

Applicants: MATL LLP.

Description: § 205(d) Rate Filing: MATL Table of Contents Revisions to be effective 4/11/2017.

Filed Date: 4/10/17.

Accession Number: 20170410-5120.

Comments Due: 5 p.m. ET 5/1/17.

Docket Numbers: ER17-1397-000.

Applicants: MATL LLP.

Description: Tariff Cancellation: MATL ColumbiaGrid Agreement Cancellation to be effective 4/11/2017.

Filed Date: 4/10/17.

Accession Number: 20170410-5122.

Comments Due: 5 p.m. ET 5/1/17.

Docket Numbers: ER17-1398-000.

Applicants: NorthWestern Corporation.

Description: § 205(d) Rate Filing: SA 807—LGIA with Buffalo Trail Wind Farm LLC to be effective 6/10/2017.

Filed Date: 4/10/17.

Accession Number: 20170410-5195.

Comments Due: 5 p.m. ET 5/1/17.

Docket Numbers: ER17-1399-000.

Applicants: Interstate Power and Light Company, ITC Midwest LLC.

Description: § 205(d) Rate Filing: Amended Operating and Transmission Agreement Exhibits and Appendices to be effective 6/9/2017.

Filed Date: 4/10/17.

Accession Number: 20170410-5197.

Comments Due: 5 p.m. ET 5/1/17.

Docket Numbers: ER17-1400-000.

Applicants: ITC Midwest LLC.

Description: § 205(d) Rate Filing: Filing of a Joint Use Pole and Facility Construction Agreement to be effective 6/9/2017.

Filed Date: 4/10/17.

Accession Number: 20170410-5198.

Comments Due: 5 p.m. ET 5/1/17.

Docket Numbers: ER17-1401-000.

Applicants: Public Service Company of Colorado.

Description: § 205(d) Rate Filing: PSC-PRPA-414-0.0.0 to be effective 4/16/2016.

Filed Date: 4/10/17.

Accession Number: 20170410-5203.

Comments Due: 5 p.m. ET 5/1/17.

Take notice that the Commission received the following electric securities filings:

Docket Numbers: ES17-16-000.

Applicants: MDU Resources Group, Inc.

Description: Application pursuant to Section 204 of the Federal Power Act of MDU Resources Group, Inc.

Filed Date: 4/7/17.

Accession Number: 20170407-5306.

Comments Due: 5 p.m. ET 4/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2017.
Kimberly D. Bose,
Secretary.

[FR Doc. 2017-07691 Filed 4-14-17; 8:45 am]

BILLING CODE 6717-01-P